DEPARTMENT OF ENERGY

Federal Energy Regulatory Commission

[Docket No. ER01-3001-004, et al.]

New York Independent System Operator, Inc., et al.; Electric Rate and Corporate Filings

December 12, 2002.

The following filings have been made with the Commission. The filings are listed in ascending order within each docket classification.

1. New York Independent System Operator, Inc.

[Docket No. ER01-3001-004]

Take notice that on December 3, 2002, the New York Independent System Operator, Inc. (NYISO) submitted a report on the status of its demand side management programs and the status of the addition of new generation resources in New York State in compliance with the Commission's previous orders in the above-captioned proceeding. The NYISO has served a copy of this filing upon all parties that have executed service agreements under the NYISO's Open Access Transmission Tariff and Market Administration and Control Area Services Tariff.

Comment Date: December 24, 2002.

2. Pacific Gas and Electric Company

[Docket Nos.ER02-1330-003]

Take notice that on December 9, 2002, Pacific Gas and Electric Company (PG&E) submitted a compliance filing in response to FERC's October 25, 2002 “Order Conditionally Accepting, As Modified, Crediting Mechanism and Interconnection Agreements, And Ordering Refunds”, in this docket in the matter of several Agreements filed on March 18, 2002, including an executed Generator Interconnection Agreement (GIA) replacing an unexecuted placeholder GIA that is part of the Generator Special Facilities Agreement (GSFA), between PG&E and Los Medanos Energy Center LLC (LMEC) providing for Special Facilities and the parallel operation of LMEC's generating facility and the PG&E-owned electric system that is on file with the Commission as Service Agreement No. 8 to PG&E Electric Tariff, Sixth Revised Volume No. 5, and a proposed crediting mechanism for network upgrades.

Copies of this filing have been served upon LMEC, Calpine Corporation, the California Independent System Operator Corporation, and the California Public Utilities Commission, and the parties to this docket.

Comment Date: December 30, 2002.

3. Midwest Independent Transmission System Operator, Inc.

[Docket Nos. ER02-2577-001]

Take notice that on December 9, 2002, the Midwest Independent Transmission System Operator, Inc. (the Midwest ISO) tendered for filing substituted pages to its Open Access Transmission Tariff (OATT), FERC Electric Tariff, First Revised Volume No. 1, which reflect that Attachment K (Congestion Relief) has been deferred indefinitely until the Midwest ISO energy markets are operative in December 2003. The Midwest ISO submits that upon the deferral of implementation of Attachment K, the Midwest ISO will continue to implement as its congestion management tool the North American Electric Reliability Council (NERC) Transmission Loading Relief (TLR) procedures incorporated into the Midwest ISO OATT as Attachment Q.

The Midwest ISO also seeks waiver of the Commission's regulations, 18 CFR 385.2010 with respect to service on all parties on the official service list in this proceeding. The Midwest ISO has served a copy of this filing electronically, with attachments, upon all Midwest ISO Members, Member representatives of Transmission Owners and Non-Transmission Owners, the Midwest ISO Advisory Committee participants, Policy Subcommittee participants, as well as all state commissions within the region. In addition, the filing has been posted electronically on the Midwest ISO's Web site at www.midwestiso.org under the heading “Filings to FERC” for other interested parties in this matter. The Midwest ISO will provide hard copies to any interested parties upon request.

Comment Date: December 30, 2002.

4. PJM Interconnection, L.L.C.

[Docket Nos. ER02-2651-001]

Take notice that on December 9, 2002, in compliance with the Commission's order in PJM Interconnection, L.L.C., 101 FERC ¶ 61,192 (2002), PJM Interconnection, L.L.C. (PJM) submitted for filing revisions to Schedule 6A (Black Start Service) of the PJM Open Access Transmission Tariff to change the reference to “transmission customers” in paragraph 1 of Schedule 6A to “Transmission Customers and Network Customers” and to change the title of paragraph 1 from “Transmission Customers” to “Transmission Customers and Network Customers.”

Consistent with the Commission acceptance of Schedule 6A of the PJM Tariff, PJM requests an effective date of December 1, 2002 for the amendments. Copies of this filing were served upon all parties designated on the official service list in Docket No. ER02-2651-000, all PJM members and each state electric utility regulatory commissions in the PJM region.

Comment Date: December 30, 2002.

5. Sierra Pacific Power Company Nevada Power Company

[Docket No. ER03-37-001]

Take notice that on December 10, 2002, Sierra Pacific Power Company and Nevada Power Company (collectively Applicants) tendered for filing pursuant to Section 205 of the Federal Power Act, Section 35 of the Commission's Regulations, and the Commission's November 25, 2002 Order issued in the above-referenced proceeding, a compliance filing consisting of clean and redlined versions of Service Schedules 1-7 of the Sierra Pacific Resources Operating Companies FERC Electric Tariff, Third Revised Volume No. 1. These changes implement the requirement in paragraph 9 of the Commission's Order to make a compliance filing within 15 days to conform the Service Schedules with the requirement of Order No. 614.

Comment Date: December 31, 2002.

6. PJM Interconnection, L.L.C.

[Docket No. ER03-194-001]

Take notice that on December 10, 2002 PJM Interconnection, L.L.C. (PJM), submitted for filing a substitute unexecuted interconnection service agreement between PJM and Duke Energy Fayette, LLC (Duke Energy) to correct an error in the classification of the charges in the interconnection service agreement originally submitted for filing in this docket.

PJM requests a waiver of the Commission's 60-day notice requirement to permit the effective date agreed to by Duke Energy and PJM. Copies of this filing were served upon Duke Energy, the state regulatory commissions within the PJM region, and the official service list for this proceeding.

Comment Date: December 31, 2002.

7. Golden Spread Electric Cooperative, Inc.

[Docket No. ER03-255-000]

Take notice that on December 9, 2002, Golden Spread Electric Cooperative, Inc. (Golden Spread) tendered for filing an amendment to its First Revised Rate Schedules No. 31 for service to South Plains Electric Cooperative, Inc. (South Plains). The amendment provides that as of January 1, 2003, South Plains will purchase power from Golden Spread on a full requirements basis.

Golden Spread requests waiver of the Commission's prior notice regulations such that the amendments may become effective on January 1, 2003. A copy of this filing has been served upon all of Golden Spread's members and the appropriate state commissions.

Comment Date: December 30, 2002.

8. Virginia Electric and Power Company

[Docket No. ER03-257-000]

Take notice that on December 10, 2002, Virginia Electric and Power Company (Dominion Virginia Power or Company) respectfully tendered for filing an amendment to its Open Access Transmission Tariff to implement a Rate Reciprocity Agreement with PJM Interconnection, LLC (PJM) whereby Dominion Virginia Power transmission system will be treated as if it were a part of PJM for rate purposes.

Comment Date: December 31, 2002.

9. Calpine Parlin, Inc.

[Docket No. ER03-259-000]

Take notice that on December 9, 2002, Calpine Parlin, Inc. filed a Notice of Succession to adopt CogenAmerica Parlin, Inc.'s market-based rate authorizations.

Comment Date: December 30, 2002.

Standard Paragraph

Any person desiring to intervene or to protest this filing should file with the Federal Energy Regulatory Commission, 888 First Street, NE., Washington, DC 20426, in accordance with Rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Linwood A. Watson, Jr.,
Deputy Secretary.

[FR Doc. 02-32121 Filed 12-19-02; 8:45 am]

BILLING CODE 6717-01-P